DEPARTMENT OF LABOR

Employment and Training Administration

[TA-W-82,531]

Apex Tool Group, LLC, A Subsidiary of Bain Capital, North American Hand Tools Operations, Including On-Site Leased Workers From 1st Employment Staffing, TEC Staffing Services and Kelly Staffing Services, Springdale, Arkansas; Amended Certification Regarding Eligibility To Apply for Worker Adjustment Assistance

In accordance with Section 223 of the Trade Act of 1974, as amended (“Act”), 19 U.S.C. 2273, the Department of Labor issued a Certification of Eligibility to Apply for Worker Adjustment Assistance on April 8, 2013, applicable to workers of Apex Tool Group, LLC, a subsidiary of Bain Capital, North American Hand Tools Operations, including on-site leased workers from TEC Staffing Services and Kelly Staffing Services, Springdale, Arkansas. The Department of Labor published the Notice of Determination in the Federal Register on May 15, 2013 (78 FR 28636).

At the request of the company official, the Department reviewed the certification for workers of the subject firm. The workers were engaged in activities related to the production of tool set kits and horseshoes.

The company reports that workers leased from 1st Employment Staffing were on-site at the Springdale, Arkansas location of Apex Tool Group, LLC. The Department has determined that these workers were sufficiently under the control of the subject firm to be considered leased workers.

Based on these findings, the Department is amending this certification to include workers leased from 1st Employment Staffing working on-site at the Springdale, Arkansas location of Apex Tool Group, LLC.

The amended notice applicable to TA-W-82,531 is hereby issued as follows:

All workers of Apex Tool Group, LLC, a subsidiary Of Bain Capital, North American Hand Tools Operations, including on-site leased workers from 1st Employment Staffing, TEC Staffing Services and Kelly Staffing Services, Springdale, Arkansas, who became totally or partially separated from employment on or after March 6, 2012 through April 8, 2015, and all workers in the group threatened with total or partial separation from employment on the date of certification through two years from the date of certification, are eligible to apply for adjustment assistance under Chapter 2 of Title II of the Trade Act of 1974, as amended.

Signed in Washington, DC, this 10th day of March, 2015.
Michael W. Jaffe,
Certifying Officer, Office of Trade Adjustment Assistance.

[FR Doc. 2015-06837 Filed 3-24-15; 8:45 am]

BILLING CODE 4510-FN-P